DEPARTMENT OF TRANSPORTATION

Federal Highway Administration

Notice of Final Federal Agency Actions on Proposed Highway in Utah

AGENCY: Federal Highway Administration (FHWA), DOT.

ACTION: Notice of Limitation on Claims for Judicial Review of Actions by FHWA and Other Federal Agencies.

SUMMARY: This notice announces actions taken by the FHWA and other Federal Agencies that are final within the meaning of 23 U.S.C. 139(l)(1). The actions relate to a proposed highway project, State Route 18 (Bluff Street); from St. George Boulevard to Red Hills Parkway, in Washington County in the State of Utah. Those actions grant licenses, permits, and approvals for the project.

DATES: By this notice, the FHWA is advising the public of final agency actions subject to 23 U.S.C. 139(l)(1). A claim seeking judicial review of the FHWA and other Federal agency actions on the highway project will be barred unless the claim is filed on or before February 24, 2013. If the Federal law that authorizes judicial review of a claim provides a time period of less than 180 days for filing such claim, then that shorter time period still applies.

FOR FURTHER INFORMATION CONTACT: For FHWA: Mr. David Cox, Design Program Manager, Federal Highway Administration, 2520 West 4700 South, Suite 9A, Salt Lake City, Utah 84129; telephone (801) 955-3516; email: David.Cox@dot.gov. The FHWA Utah Division's normal business hours are Monday through Friday, 7:30 a.m. to 4:30 p.m. MST. For UDOT: Mr. Brandon Weston, Environmental Services Director, 4501 South 2700 West, Salt Lake City, Utah 84114; telephone: (801) 965-4603; email: brandonweston@utah.gov. The UDOT's normal business hours are Monday through Friday, 8 a.m. to 5:00 p.m. MST.

SUPPLEMENTARY INFORMATION: Notice is hereby given that the FHWA and other Federal agencies have taken final agency actions subject to 23 U.S.C. 139(l)(1) by issuing licenses, permits, and approvals for the following highway project in the State of Utah: Bluff Street; St. George Boulevard to Red Hills Parkway in the city of St. George, Washington County, Utah. The project will include widening of Bluff Street to seven lanes from St. George Boulevard to 500 North; continuous shoulder, sidewalk, and curb and gutter from St. George Boulevard to Red Hills Parkway; a median U-turn intersection at St. George Boulevard; and a jug-handle underpass intersection at Sunset Boulevard. The project will accommodate future (2040) travel demand on Bluff Street mainline and at the St. George Boulevard and Sunset Boulevard intersections. The actions by the FHWA and other Federal agencies, and the laws under which such actions were taken, are described in the Environmental Assessment (EA) for the project, approved on January 25, 2012, in the FHWA Finding of No Significant Impact (FONSI) issued on July 24, 2012, and in other documents in the FHWA project files. The EA, FONSI, and other project records are available by contacting the FHWA or the UDOT at the addresses provided above. The FHWA EA and FONSI can be viewed and downloaded from the project Web site at www.udot.utah.gov/bluffstreetstudy.

This notice applies to all FHWA and other Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 42OL-42O91].

7. Wetlands and Water Resources: Clean Water Act [33 U.S.C. 1251-1377 (Section 404, Section 401, Section 319)]; Safe Drinking Water Act (SDWA) [42 U.S.C. 300(f)-300(j)(6)]; Emergency Wetlands Resources Act [16 U.S.C. 3921, 3931]; TEA-21 Wetlands Mitigation [23 U.S.C. 103(b)(6)(m), 133(b)(11)]; Flood Disaster Protection Act [42 U.S.C. 4001-4129].

Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species. (Catalog of Federal Domestic Assistance Program Number 20.205, Highway Planning and Construction. The regulations implementing Executive Order 12372 regarding intergovernmental consultation on Federal programs and activities apply to this program.)

Authority: 23 U.S.C. 139(l)(1).

Issued on: August 21, 2012.
James C. Christian,
Division Administrator, Salt Lake City.

[FR Doc. 2012-21191 Filed 8-27-12; 8:45 am]

BILLING CODE 4910-RY-P